DEPARTMENT OF THE INTERIOR

Bureau of Land Management

[NV-930-1430-ES; N-63278]

Notice of Realty Action; Recreation and Public Purposes Act Classification; Nevada

AGENCY: Bureau of Land Management, Interior.

ACTION: Notice.

SUMMARY: The following described land in Elko County, Nevada, has been examined and identified as suitable for classification for lease, with the option to purchase after development, under the provisions of the Recreation and Public Purpose (R&PP) Act of June 14, 1926, as amended, (43 U.S.C. 869 et seq.). The Elko County School District proposes to use the land for construction of a middle school facility.

Mount Diablo Meridian, Nevada

T. 34 N., R. 55 E.

Section 8, E½NE¼SW¼, NE¼NW¼SE¼, S½NW¼NW¼SE¼, S½NW¼SE¼.

Containing 55.00 acres, more or less.

The lands are not needed for Federal purposes. Lease or conveyance is consistent with current BLM land use planning and would be in the public interest. The land would not be offered for lease until at least 60 days after the date of publication of this notice in the Federal Register.

FOR FURTHER INFORMATION CONTACT: Detailed information concerning this action is available for review at the Bureau of Land Management, Elko Field Office, 3900 E. Idaho Street, Elko, Nevada.

SUPPLEMENTARY INFORMATION: The Elko County School District has made application to acquire the land to construct a new middle school facility. Due to the dramatic growth over the last few years, all four of the existing elementary schools and Elko Junior High School are experiencing overcrowding. The action to build a new school would help to alleviate that situation. The lease/patent, when issued, would be subject to the provisions of the Recreation and Public Purpose Act, applicable regulations of the Secretary of the Interior, and will contain the following reservations to the United States:

1. A right-of-way thereon for ditches and canals constructed by the authority of the United States, Act of August 30, 1890, (43 U.S.C. 945).

2. All minerals shall be reserved to the United States, together with the right to prospect for, mine, and remove such deposits from the same under application law and such regulations as the Secretary may prescribe.

Upon publication of this Notice in the Federal Register, the above described land will be segregated from all other forms of appropriation under the public land laws except for lease or conveyance under the Recreation and Public Purpose Act, the general mining laws, and leasing under the mineral leasing laws. The segregative effect will terminate upon issuance of a patent or as specified in an opening order to be published in the Federal Register, whichever comes first.

For a period of 45 days from the date of this publication in the Federal Register, interested persons may submit comments regarding the proposed classification or conveyance of the land to the District Manager, Elko Field Office, 3900 E. Idaho St., Elko, Nevada, 89801. The State Director, who may sustain, vacate or modify this realty action, will evaluate any objections. In the absence of any adverse comments, the classification of the lands described in this Notice will become effective 60 days from the date of publication in the Federal Register.

Classification of Comments: Interested parties may submit comments involving the suitability of the construction of a new middle school. Comments on the classification are restricted to whether the land is physically suited for the proposal, whether the use will maximize the future use or uses of the land, whether the use is consistent with local planning and zoning, or if the use is consistent with State and Federal programs.

Application Comments: Interested parties may submit comments regarding the specific use proposed in the application and plan of development, whether the BLM followed proper administrative procedures in reaching the decision, or any other factor not directly related to the suitability of the land for a middle school facility.

Dated: April 16, 2002.
David L. Stout,
Associate Field Manager, Elko Field Office.

[FR Doc. 02-12902 Filed 5-22-02; 8:45 am]

BILLING CODE 4310-HC-P